LIBRARY OF CONGRESS

Copyright Office

37 CFR Part 202

[Docket No. RM 2007-7]

Online Registration of Claims to Copyright

AGENCY: Copyright Office, Library of Congress.

ACTION: Interim regulations for online registration.

SUMMARY: The Copyright Office is undergoing an extensive business process reengineering (BPR) initiative of many of its internal work systems, including registration and recordation procedural systems, to enhance the delivery of its services to the public. The implementation of an online registration system is a key component of BPR, and it requires that the Office amend its regulations governing the procedures by which the public submits, and the Office processes, copyright registrations and recordations.

These interim rules identify the principal changes and upgrades to the registration system and announce the amendments to the regulations to accommodate online registration. These changes will become effective with the commencement of the Beta test phase of the electronic, online registration system in July 2007. The Beta test phase will be limited to selected participants until system testing is complete, at which time the Office will open the electronic registration system to the public.

DATES: These interim rules become effective on July 6, 2007. Written comments on the interim regulation should be received on or before September 4, 2007.

ADDRESSES: If hand delivered by a private party, an original and five copies of a comment or reply comment should be brought to the Library of Congress, U.S. Copyright Office, Public and Information Office, 101 Independence Ave., SE., Washington, DC 20559, between 8:30 a.m. and 5 p.m. The envelope should be addressed as follows: Office of the General Counsel, U.S. Copyright Office.

If delivered by a commercial courier, an original and five copies of a comment must be delivered to the Congressional Courier Acceptance Site (CCAS) located at 2nd and D Streets, NE., Washington, DC between 8:30 a.m. and 4 p.m. The envelope should be addressed as follows: Office of the General Counsel, U.S. Copyright Office, LM-401, James Madison Building, 101 Independence Avenue, SE., Washington, DC. Please note that CCAS will not accept delivery by means of overnight delivery services such as Federal Express, United Parcel Service or DHL. If sent by mail (including overnight delivery using U.S. Postal Service Express Mail), an original and five copies of a comment or reply comment should be addressed to U.S. Copyright Office, Copyright GC/I&R, P.O. Box 70400, Washington, DC 20024.

FOR FURTHER INFORMATION CONTACT: Tanya Sandros, General Counsel, or Nanette Petruzzelli, Special Legal Advisor to the Register for Reengineering, Copyright Office, Library of Congress, Washington, DC 20540. Telephone: (202) 707-8380. Telefax: (202) 707-8366.

SUPPLEMENTARY INFORMATION:

Background

For well over a century, the Copyright Office has met its statutory obligation of registering claims to copyright and recording documents pertaining to copyright. 17 U.S.C. 207-210 (1909 Copyright Act, repealed 1976), as amended, 17 U.S.C. 205, 408-410 (2005). The Copyright Office’s internal processes for registering claims have been improved and upgraded periodically to take advantage of the emergence of new technologies for the purpose of greater efficiency in operating an office of record. The Office has issued, on average, more than a half-million certificates of registration each fiscal year for the past ten years. In fiscal year 2005, the Office received 600,535 claims to copyright for more than a million works of authorship of which it registered 531,720 claims. See Annual Report of the Register of Copyrights, Fiscal Year Ending September 30, 2005, at 9; also available on the Copyright Office website at www.copyright.gov.

Approximately seven years ago, the Copyright Office decided that an extensive restructuring of its registration processing was in order to address the long processing times and mechanical problems with outdated office machinery that had come to characterize the registration system. The Office’s objectives in undertaking reengineering include the following: improve the efficiency and timeliness of public services; provide more Copyright Office services online; ensure the prompt availability of newly created copyright records; provide better internal tracking of items within all aspects of the Office’s workflow; and increase the acquisition of digital works for the Library of Congress.

In addition to registration, reengineering’s scope will ultimately extend to all of the Office’s IT systems, mandatory deposit submissions under section 407 of the copyright law, the recordation of documents pertaining to copyrights, vessel hull designs, and mask works, and to administrative actions for cable, satellite and other compulsory licensing.

These interim rules, however, lists and explains the changes applicable to the electronic copyright registration option and announces regulatory amendments to address the changes resulting from the adoption of electronic copyright registration procedures. These changes will apply to all participants submitting claims electronically, including those who take part in the Beta test. Those who do not participate in the Beta test will continue to submit paper applications under the current regulations. Other changes arising from the reengineered processes will be announced in the future in separate notices to the public.

Beta testing of electronic registration system

The Beta test phase of the online registration system component of the electronic Copyright Office (“eCO”) will begin in July 2007. The Office has chosen to implement its electronic registration procedures within a test environment initially in order to ensure the public seeking the benefits of online registration of the ease and functional accuracy of the new system and to allow the Copyright Office the necessary time to optimize all aspects of the new system. Participants in the Beta test will be selected based upon a set of criteria designed to identify participants with a wide variety of claims and accompanying deposit copy materials in all classes of authorship in order to determine whether the electronic system can effectively receive and process the electronic submissions. See 72 FR 30641 (June 1, 2007).

The initial phase of the Beta test will cover basic registration claims for literary works, visual arts works, performing arts works and sound recordings submitted electronically. At a later date, additional participants will be added as the system shows its continuing reliability, and the Beta test will expand to cover all options for submitting applications and additional registration claim types, including group registrations, vessel hull designs, mask works, renewals, and corrections and amplifications of existing registrations.

The Online Registration Process

Registration consists, in part, of the statutorily mandated act of examining all works submitted for registration. 17 U.S.C. 410(a). The examination includes an Office determination of the copyrightability of the work as well as a determination that all other legal and formal requirements of the statute and regulations have been met with respect to all relevant facts surrounding a given work. While these statutory activities will not change, the Office is proposing major changes to the processes it employs to meet these requirements. Changes are being made to the registration application forms; deposit copy requirements for works submitted in an electronic format; the certificate of registration; the permanent registration record which the Office will maintain and make available; and the manner in which the Office will communicate with the public concerning registration submissions. These changes will be phased in over time after being fully tested.

The Copyright Office has traditionally communicated with registration applicants by phone, letter, or email. Because of the change to electronic recordkeeping which the reengineered registration system represents, communication with applicants will occur more frequently by email because of the ease, the wide availability of the email medium, and the speed with which communication can be accomplished. Email, however, will not totally replace communication by letter or phone.

Options for submitting claims after reengineering

A registration application may be completed and submitted online or by mailing or delivering a completed application form, new Form CO, to the Copyright Office. Because the Office expects to accrue savings due to the more efficient processing of electronic claims, a lower filing fee of $35 has been established for online submissions. The fee for filing paper applications will remain $45. Four options will be available for registering claims in the reengineered Copyright Office. During the initial phase of the Beta test only registration by electronic submission (options #1 and 2) will be available. As the other options become available, they too will be offered to the participants in the Beta test; and once the Beta test is complete, the following four options will be made available to the public.

1. Registration may be made by electronic submission of the claim in its entirety. This means that the applicant electronically submits the application form via the Copyright Office website, www.copyright.gov, concurrently sends electronically the deposit materials, and pays the appropriate filing fee electronically, through an electronic fund transfer, with a credit card, or through a Copyright Office deposit account. This is full electronic submission and the filing fee is $35.

2. Registration may be made by electronically submitting the application form and the required filing fee, payment being made as described above, and mailing the required deposit materials in accordance with the filings requirements set forth in 37 CFR 202.20. The registration fee for this option is $35.

3. Registration may be made by completing a pdf version of the application, Form CO, available on the Office’s website, www.copyright.gov, and printing it out. The completed form includes a barcode containing the information that has been entered by the applicant and which will facilitate the Office’s handling of the claim. The completed application form accompanied by the appropriate deposit materials and the required $45 filing fee for a nonelectronic submission may be submitted to the Office by mail or hand delivered. Payment may be made by check, money order or Copyright Office deposit account.

4. Registration may be made by completing a blank application, Form CO, from the Office’s website, www.copyright.gov, or by requesting a blank registration form by phone, facsimile, email, US mail or by visiting the Public Information Office. This form is the same as the pdf version described above. The applicant may complete the form either by typing or printing the required information. The completed application form accompanied by the appropriate deposit materials and the required $45 filing fee for a nonelectronic submission may be submitted to the Office by mail or hand delivered. Payment may be made by check, money order or Copyright Office deposit account. Office staff will enter all applicant-supplied information into the automated registration system.

Applications that are completed by hand or that are typed may take longer for processing because the Office staff must transfer the information into the automated registration system.

Use of the US Postal Service to deliver claims

After the electronic registration system is fully tested and released to the public, some applicants will continue to submit their claims through the mail. To assure that postal mail is routed correctly within the Copyright Office, applicants should use the appropriate 4-digit extension to the zip code and also indicate, by a two-letter abbreviation, the general subject matter of the claim. Those who submit a Form CA or Form Gatt should also include the appropriate two-letter code to identify the class of work. Claims should be addressed to the Office in the following manner:

Library of Congress

Copyright Office - xx (two-letter code)

101 Independence Avenue, S.E.

Washington, D.C. 20559-6xxx (four-letter code)

Class of work | Two letter code | 4-digit zip code extension
literary works | TX | 6222
serials | SE | 6226
visual arts works | VA | 6211
performing artworks, except motion pictures | PA | 6233
sound recordings | SR | 6237
motion pictures | MP | 6238
renewal claims | RE | 6239
document recordations | DOC | 6216
mask works | MW | 6214
vessel hull designs | VH | 6215

Applicants are reminded that all mail addressed to Capitol Hill must be screened for security purposes. This required step significantly slows the traditional processing times for registration. This delay may be avoided by filing claims online. For information on walk-in business hours, security procedures, and other services of the Copyright Office Public Information Office, see the website at www.copyright.gov or phone the Office at 202-707-5959.

Forms

A. Form CO

Form CO is the new generic application, appropriate for registration of a single work in any of the four classes of authorship (literary works, including single serial issues; works of the visual arts, including architectural works; works of the performing arts, including motion pictures and other audiovisual works; and sound recordings). It replaces the current registration application forms, Forms TX, VA, PA, SR, and SE, and it too will be made available on the Copyright Office website.

Anyone wishing to register, for example, a book of poems, a computer program, a photograph, a map, or a sound recording and the song embodied within it, will use the generic registration form. Form CO will be available for all classes of authorship and registration will be made in the class of the predominant authorship which is the same principle the Office now follows. See 37 CFR 202.3(b)(1) and (b)(2). The Office will retain the registration class indicators TX (literary works), VA (visual arts), PA (performing arts), and SR (sound recordings) for this purpose and also as a means of separating records within the official registration database.

Form CO is also the appropriate form for registering a single serial issue and multiple works considered to be a single unit under Office current regulations, see 37 CFR 202.3(b)(3). For purposes of registering these types of works, the paper application form contains a dedicated space for the title, and, if the work is a serial issue, the title of the serial will be placed there. The electronic form provides a similar field and also includes space for the volume/number/issue and, if there is one, the ISSN (International Standard Serial Number) for the serial of which one issue is being registered.

Much of the required information on the new application form remains the same as the information required on the current forms. See 17 U.S.C. 409. However, the sequencing of the required information appearing in the new form differs from that on the current application forms; and there are several newly-appearing pieces of data on the generic application. Specifically, Form CO asks for the following additional but optional information:

1. International Standard Serial Number (ISSN) information and the International Standard Book Number (ISBN), for monographic works;

2. Claimant email and telephone number; and

3. Rights and permission data.

B. Form CA

Form CA is an application for supplementary registration to correct or augment the information in an already completed registration. The additional information does not supersede the information contained in the earlier registration. 17 U.S.C. 408(d). The Office will continue to use Form CA.

Supplementary registration within the reengineered Copyright Office may be accomplished either by filing electronically the application Form CA or by submitting a paper application Form CA. No changes have been made to the information required on the form. The Office has determined that the required fields in the current supplementary registration application are the appropriate fields. Thus, except for the format, Form CA will essentially remain the same. Form CA has been reformatted to make completion of the form more straightforward.

C. Continuation sheets

A continuation sheet is an adjunct to Form CO and serves as a form to provide additional information. Continuation sheets, as such, will not exist in the online electronic form. The online system allows the entry of large quantities of continuous, applicant-supplied data within given electronic fields on the basic form, making the additional form unnecessary.

However, continuation sheets will still be used in conjunction with paper applications. The Office will offer two print continuation sheets - CON 1 and CON 2 - for Form CO when used for a single-work. CON 1 is the generic continuation sheet which can be used for the continuation of almost all information, except multiple titles. CON 1 is appropriate for listing additional authors, additional claimants, and additional information about the extent of the authorship being claimed. CON 2 must be used to list multiple titles which are to be covered by a single registration.

When the reengineered registration system is released to the public later this year, there will be no additional fee for the listing of individual titles. Beginning in calendar year 2008, however, the Office expects to require an additional fee, $1 per title for electronic submission and $3 per title for paper submission, for listing individual titles in which a claim is made. Additionally, the Office expects to limit the number of titles permitted on a CON 2. A separate Notice of Proposed Rulemaking covering these topics will be published in order to gather public comment.

Deposit copies and phonorecords

A. Best Edition considerations

Although the Copyright Office is changing its submission procedures for the registration of claims to copyright, at this time there is no change in the deposit requirements for published works. With respect to published works, the registration requirements for deposit copies and phonorecords existing in traditional print and physically tangible media will remain the same for all works, including those submitted electronically during the Beta test. Current deposit regulations, including those governing instances of identifying material, may be found at 37 CFR 202.20-202.21 and in Appendix B to those regulations, the Best Edition Statement. See also Copyright Office Circular 7B at www.copyright.gov. Registration of unpublished works may generally be made with any deposit materials which the applicant chooses, as long as the deposit shows the content/authorship on which copyright is being claimed.

For works published in both hard copy as well as in electronic format, the Library’s Best Edition statement remains in effect as do the Copyright Office’s current regulations. Specifically,

§ 202.19(b)(1)(iii)(A) states that when the Office is aware that two or more editions of a work have been published, it will consult with the Library regarding the ‘best edition’ of the work which must be submitted under section 407 demand deposit requirements. The copyright law also provides that “[c]opies or phonorecords deposited for the Library of Congress under section 407 may be used to satisfy the deposit provisions (of section 408, registration deposit materials), if they are accompanied by the prescribed application and fee, and by any additional identifying material that the Register may, by regulation, require.” 17 U.S.C. 408(b)(4). With the general exception of the category of computer programs, satisfaction of section 407 demand requirements is tied to deposit materials used in the registration process. Generally, a hard copy format of a work for which registration is sought is the edition which the Library currently requires; that may change in the future.

If the authorship in a multiple formatted work may be examined for registration using an electronic format, that format may, depending on the type of work and the collection goals of the Library, be submitted for registration purposes, but the obligation to deposit best edition hard copy format[s] may remain. See generally 17 U.S.C. 407; 37 CFR 202.19; Compendium of Copyright Office Practices II, § § 802-804.

B. Electronic file formats

The Copyright Office is currently concerned with structuring an automated system under its reengineering program that will be able to receive, maintain, and archive authorship in an electronic file when authorship embodied in that file is the subject of copyright registration. The Office realizes that no particular digital format is universally employed for this purpose and that a myriad of formats have evolved to accommodate the differing characteristics regarding the digitization of diverse content, e.g., photographs and sound recordings.

Therefore, in order to structure a registration system which will facilitate the electronic registration of all works, the Office is identifying those digital formats which it anticipates it will be able to accommodate within its reengineered registration system. Applicants will not be required to use a particular digital format for the electronic submission of a work. Format is one of ease for the applicant and acceptable formats for registration purposes are listed merely as preferences. The following formats are acceptable and appear in no particular order:

• .PDF Portable Document Format

• .TXT Plain Text File

• .WPD WordPerfect document

• .DOC Word document

• .TIF Tagged Image File Format

• .JPG Joint Photographic Expert Group Format

• .XML Extensible Markup Language

• .MPEG Motion Picture Experts Group, name given in a general sense to a family of standards for the digital fixing of audiovisual information in compressed format; this family also includes:

• .MP3 M-PEG 1 Audio Layer 3

• .WAV Waveform Audio Format

• .HTML Hyper text markup language, markup language used to structure text and multimedia documents and to set up hypertext links.

Executable files, i.e., those ending in .exe, .com, .bat, etc., will not be accepted.

In cases where identifying material is required or allowed, that material may be submitted electronically, provided that all other requirements for submitting identifying material are met. A new regulation at 37 CFR 202.20(e) on electronic deposit formats required for registration will be added to the deposit regulation within the coming year, and the Office will seek comment on the proposed regulation at that time. As is the current practice, where the Office can accept an electronic submission and the content is encrypted or compressed, the Office will ask the applicant to provide software and/or algorithms to enable the required examination of the authorship content and to allow for the statutorily required public inspection pursuant to 17 U.S.C. 705(b) of such registered works.

C. Copyright Office use of digital deposit materials

Deposit materials submitted to the Copyright Office for purposes of registration are governed by the provisions of the copyright statute at sections 704 and 705 and the regulations governing the allowable extent of public inspection and copying of deposit materials found in the regulations for the Library and the Office’s current regulations. See 37 CFR 201.2(b).

Certificates of registration

Since 1978 the Copyright Office has issued certificates of registration which include a photocopy of the application form submitted by the applicant. The certificate reflects the application as it may have been amended, and as it was approved, by the copyright examiner.

In the new registration system, the Office will issue certificates of registration containing information supplied by the applicant concerning the work being registered but which are not identical copies of the completed, examined, and approved application. These system-generated certificates will carry a certification which states that the party who signed the application certifies that the information provided is correct to the best of his knowledge. That party will have indicated that he falls within one of the categories of such signing party, i.e., author, claimant, owner of exclusive rights, authorized agent of one of these parties, but the form does not require the party to indicate the particular status. This change addresses the frequent confusion on the part of applicants and the correspondence that such confusion has necessitated. The certifying date will automatically be added to the certificate, and it will be the date the Office electronically receives initially an acceptable application. The interim regulatory provisions amending 37 CFR 202.3(c) will govern use of Form CO.

Parties submitting registration applications in the traditional paper format on or after July 2, 2007, and who are not part of the Beta test or the motion picture pilot, see 70 FR 3231 (January 21, 2005), will continue to receive certificates generated from a photocopied image of the originally submitted application. However, in the case where the Office processes a paper application electronically, certificates generated by the new system will be issued.

The registration record

Section 705(a) of the copyright law requires the Register to maintain records of “deposits, registrations, recordations, and other actions.” Section 705(b) requires that “such records and indexes as well as the articles deposited in connection with completed copyright registrations and retained under the control of the Copyright Office, shall be open to public inspection.” The purpose of the registration record is to create records that reflect the facts and information surrounding the copyright claim. As part of its reengineering efforts, the Copyright Office conducted a review and study of its registration records created through the years to determine how the registration records might be improved to provide an accurate summary of a claim to copyright in a particular work.

The new registration record will contain the information which the applicant provides the Office and, in some cases, limited additional information taken from the deposit materials which the registration specialist determines to be necessary in order to further identify the work. The Office’s goal is to produce a permanent registration record, clear and unambiguous on its face, which readily reflects, and distinguishes between, facts supplied to the Office by the applicant and information, if any, taken from deposit materials.

The first part of the record will contain only the copyright facts as supplied by the applicant. All information provided by the applicant on the application form will be taken verbatim. Any substantive editing of authorship and/or new matter statements and/or material excluded from claim statements, will be done only after contacting the applicant for permission to amend the information. The second part of the record will contain additional information taken from the deposit materials to assist the public in identifying the work.

The registration records will also include for the first time the following additional information, where applicable, for the purpose of creating a more complete and useful record.

• transfer statements of copyright from the author to another party;

• the postal address of the claimant;

• an indication of the specific authorship description for a work; and

• specific information to indicate the type of material being excluded from the claim to copyright as well as the new material on which the claim is based.

In addition, the following information will be included in the registration record, if provided:

• the name, or title, and address of the person authorized to provide rights and permission to use the work, if authorized;

• the email and/or phone number of the rights and permission party if authorized by the claimant;

• the claimant’s email address and phone number, if authorized; and

• a PREregistration¹ number where a preregistration has occurred prior to actual registration of a work.

¹ Preregistration is a procedure administered by the Copyright Office which permits a ‘pre’ registration for a work that is being prepared for commercial distribution and has not been published. 17 U.S.C. 408(f)(1). Preregistration serves as a place-holder for limited purposes—specifically where a copyright owner wishes to facilitate the bringing of an infringement action while a work is still in the process of being prepared for commercial release. See Family Entertainment and Copyright Act, Pub. L. No. 109-9, 119 Stat. 218, signed into law April 27, 2005. The procedure is available only for certain categories of works which the Register has determined are eligible because of their prior infringement history. See information and regulations governing preregistration, 37 C.F.R. 202.16, at the Office’s website, www.copyright.gov/prereg.

Some claims to registration which are not submitted as part of the Beta test will be processed for inclusion in the permanent Office records in the traditional manner. These registration records will reflect the current records structure. Other records of registrations, including some submitted in traditional print format and all those completed as part of the Beta test will, on the other hand, reflect the revised public record principles described above.

Keyword searching. An important aspect of the new registration record will be the restructured search feature based on keywords. Keyword searches are those which utilize any interior word within a string of words or a phrase as opposed to using only the first, left-margin word of a name, title, or phrase. The new system will be able to locate a registration record using such interior words. Keyword searching will become available once the database has been switched from the COPICS system to the Voyager system.

Inspection of records

Completed registration records, including correspondence between the applicant and Office, will be available for inspection and copying, under the provisions of current Office regulations. See 37 CFR 201.2.

Adoption of interim regulations

Section 553(b)(3)(A) of the Administrative Procedure Act states that general notice of proposed rulemaking is not required for rules of agency organization, procedure, or practice. Since the Office finds that the following interim regulations are rules of agency organization, procedure, or practice, no notice of proposed rulemaking is required. Moreover, because it is necessary to have such a regulation in place immediately for purposes of the Beta test of the electronic registration system which is commencing concurrently with publication of these regulations, the Register of Copyrights finds that good cause exists for publication of these interim regulations less than 30 days before the effective date and without first seeking public comment. However, the Office is encouraging interested parties to comment on the interim regulations. All comments should be submitted no later than September 4, 2007.

List of Subjects in 37 CFR Part 202

Claims, Copyright, Registration requirements.

Interim Rule

In consideration of the foregoing, the Copyright Office amends part 202 of 37 CFR, in the manner set forth below:

PART 202 — REGISTRATION OF CLAIMS TO COPYRIGHT

1. The authority citation for part 202 continues to read as follows:

Authority: 17 U.S.C. 702.

2. Section 202.3 is amended as follows:

a. By redesignating the text of paragraph (b)(2) as (b)(2)(i);

b. By adding paragraph (b)(2)(ii);

c. By redesignating paragraphs (b)(3) through (10) as (b)(4) through (11);

d. By adding a paragraph (b)(3); and

e. By revising paragraph (c)(2).

The revisions and additions to § 202.3 read as follows:

§ 202.3 Registration of copyright.

(b) * * *

(2) * * *

(ii) For purposes of registration, the Register of Copyrights has prescribed a single form, Form CO, for registering a single work, in all subject matter, or for a single serial issue submitted on or after July 1, 2007. Form CO may be used in place of Form TX, Form PA, Form VA, Form SR, Form SE, and Form SE/Group. Form CO allows the applicant to assign a specific registration class of TX (for literary works, including single serial issues), PA (works of the performing arts, including motion pictures and audiovisual works), SR (sound recordings), or VA (works of the visual arts, including architectural works). Copies of the generic registration form will be available free upon request to the Public Information Office, Library of Congress, Copyright Office, 101 Independence Avenue, SE., Washington, DC 20559-6000. Application for registration using Form CO may be made in any of the following four ways:

(A) electronically, i.e., the submission of an application form electronically at the Copyright Office website [www.copyright.gov], submission of deposit materials fixed in a digital format, and the required filing fee paid online through an electronic fund transfer, credit card, or through a Copyright Office deposit account; or

(B) partially electronically, i.e., the submission of an application form electronically at the Copyright Office website [www.copyright.gov], submission of deposit materials in physically tangible formats separately mailed to the Copyright Office, and the required filing fee paid online through an electronic fund transfer, credit card, or through a Copyright Office deposit account; or

(C) by completing a PDF version of the application available on the Office‘s website [www.copyright.gov], printing the completed form and mailing it in the same package with the required deposit copies and/or materials and appropriate filing fee in check, money order, or Copyright Office deposit account charge; or,

(D) in hard copy form with respect to all required elements, i.e., submission of a completed printed application form, physically tangible deposit copies and/or materials, and the required filing fee, all elements being placed in the same package and sent by mail or delivered to the Copyright Office.

(3) Continuation sheets. A continuation sheet, CON 1, is appropriate only in submissions for which a paper application is used and where additional space is needed by the applicant to provide all relevant information concerning a claim to copyright. A separate continuation sheet, CON 2, must be used to list contents titles, i.e., titles of independent works in which copyright is being claimed and which appear within a larger work or within a collection of works; examples are short stories within a published anthology or individual sound recording tracks appearing on a CD. An application may require use of both CON 1 and CON 2 sheets.

(c) * * *

(2) An application for copyright registration shall be submitted, electronically or in printed form, on the appropriate form prescribed by the Register of Copyrights under paragraph (b) of this section. All completed application forms shall be accompanied by the appropriate filing fee, as required in § 201.3(c) of this chapter, and the deposit copies and materials required under 17 U.S.C. 408 and § 202.20. All applications submitted for registration shall supply the information required by the particular application and shall include a certification. The certification shall consist of:

(i) A designation that the party signing the print application, or submitting the application electronically, falls within an accepted status from among the following: author, claimant, an owner of exclusive rights, or a duly authorized agent of the author, claimant, owner of exclusive rights;

(ii) For print applications, the handwritten signature of the party described in paragraph (c)(2)(i) of this section accompanied by the typed or printed name of that party; or, if an electronically submitted application, a name provided within the certification screen of the electronic application which represents a party described in paragraph (c)(2)(i) of this section;

(iii) A declaration that information provided within the application is correct to the best of that party‘s knowledge; and,

(iv) For print applications, the date of completion of the application form, with the date (month, day, year) printed, typed, or handwritten; or, if an electronically submitted application, the date of electronic receipt of the application by the Copyright Office, which date shall be provided automatically by the Copyright Office.

4. Section 202.12 is amended by revising paragraphs (c)(1) and (c)(2) to read as follows:

§ 202.12 Restored copyrights.

(c) Registration.—(1) General. Application, deposit and filing fee for registration of a claim in a restored work under section 104A, as amended, may be submitted to the Copyright Office on or after January 1, 1996. The submission may be a completely electronic submission, with all required elements transmitted to the Office in electronic form; or, the submission may be partially electronic with the application form and fee submitted electronically and the deposit materials sent in physically tangible format(s). If all elements are submitted in physically tangible form, i.e., a completed, printed application form, physically tangible deposit copies/materials, and the appropriate filing fee in check, money order, or deposit account charge, all elements must be placed in the same package and sent to the following address: Library of Congress, Copyright Office, 101 Independence Avenue, SE., Washington, DC 20559-6000.

(2) GATT form. Application for registration for single works restored to copyright protection under URAA should be made on Form GATT. Form GATT may be submitted by completing Form GATT electronically, submitting the appropriate filing fee electronically, and sending the deposit copies and materials required by paragraph (c)(4) of this section by postal mail; or by printing Form GATT from the Office‘s website, sending it with the appropriate filing fee and deposit copies and materials required by paragraph (c)(4) of this section in the same package by mail; or by obtaining a Form GATT, completing it, and sending the appropriate filing fee and the deposit copies and materials required by paragraph (c)(4) of this section in the same package by mail. A printed Form GATT may be obtained by calling or writing the Copyright Office Hotline at 202-707-9100. The GATT deposit materials required by paragraph (c)(4) of this section may be submitted for examination and registration electronically. Where, however, the Library of Congress requests a particular work or its identifying material for its collections, the required print deposit materials must be submitted.

5. Section 202.20 is amended as follows:

a. By revising paragraph (b)(1);

b. By redesignating paragraphs (b)(2)(iii) through (vi) as (b)(2)(iv) through (vii); and

c. By adding a new paragraph (b)(2)(iii).

The revisions and additions to § 202.20 read as follows:

§ 202.20 Deposit of copies and phonorecords for copyright registration.

(b) * * *

(1) The best edition of a work has the meaning set forth in § 202.19(b)(1). For purposes of this section, if a work is first published in both hard copy, i.e., in a physically tangible format, and also in an electronic format, the current Library of Congress Best Edition Statement requirements pertaining to the hard copy format apply.

(2) * * *

(iii) Works submitted for registration in digital formats. A ‘complete’ electronically filed work is one which is embodied in a digital file which contains:

(A) if the work is unpublished, all authorship elements for which registration is sought; and

(B) if the work is published solely in an electronic format, all elements constituting the work in its published form, i.e., the complete work as published, including metadata and authorship for which registration is not sought. Publication in an electronic only format requires submission of the digital file[s] in exact first-publication form and content.

(C) For works submitted electronically, any of the following file formats are acceptable for registration: PDF; TXT; WPD; DOC; TIF; SVG; JPG; XML; HTML; WAV; and MPEG family of formats, including MP3. This list of file formats is non-exhaustive and it may change, or be added to periodically. Changes will be noted in the list of acceptable formats on the Copyright Office website.

(D) Contact with the registration applicant may be necessary if the Copyright Office cannot access, view, or examine the content of any particular digital file that has been submitted for the registration of a work. For purposes of section 410(d) of 17 U.S.C., a deposit has not been received in the Copyright Office until a copy that can be reviewed by the Office is received.

* * * * *

Dated: June 20, 2007
Marybeth Peters,
Register of Copyrights.
Approved by:
James H. Billington,
The Librarian of Congress.

[FR Doc. E7-13194 Filed 7-5-07; 8:45 am]

BILLING CODE 1410-30-S